DEPARTMENT OF ENERGY

Federal Energy Regulatory Commission

[Docket No. RP04-126-001]

Egan Hub Storage, LLC; Notice of Compliance Filing

February 9, 2004.

Take notice that on February 4, 2004, Egan Hub Storage, LLC (Egan Hub) tendered for filing as part of its FERC Gas Tariff, First Revised Volume No. 1, First Revised Sheet No. 143, effective February 1, 2004.

Egan Hub states that the purpose of this filing is to comply with the Commission's Order issued in the captioned docket on January 29, 2004 (January 29 Order).

Egan Hub states that it is making changes in section 14 of its General Terms and Conditions, Billings and Payments, as required by paragraph 3 of the January 29 Order. Specifically, Egan Hub is providing its customers with (i) e-mail notification of the posting of final electronic invoices, and (ii) an opportunity to designate an agent to receive electronic invoices and e-mail notifications.

Egan Hub states that copies of its filing have been served on all affected customers, interested state commissions, and all parties on the Commission's official service list.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-283 Filed 2-13-04; 8:45 am]

BILLING CODE 6717-01-P